DEPARTMENT OF JUSTICE

Antitrust Division

Notice Pursuant to the National Cooperative Research and Production Act of 1993—OPEN MOBILE ALLIANCE

Notice is hereby given that, on February 27, 2012, pursuant to Section 6(a) of the National Cooperative Research and Production Act of 1993, 15 U.S.C. 4301 et seq. (“the Act”), Open Mobile Alliance (“OMA”) has filed written notifications simultaneously with the Attorney General and the Federal Trade Commission disclosing changes in its membership. The notifications were filed for the purpose of extending the Act's provisions limiting the recovery of antitrust plaintiffs to actual damages under specified circumstances. Specifically, the following members have been added as parties to this venture: Beijing Leadtone Wireless Ltd., Haidian District, Beijing, PEOPLE'S REPUBLIC OF CHINA; Birdstep Technology AB, Stockholm, SWEDEN; Bluefish Technologies Holdings APS, Birkerod, DENMARK; Cambridge Silicon Radio Limited, Cambridge, UNITED KINGDOM; Cybage Software Private Limited, Pune, Maharashtra, INDIA; DGIST (Daegu Gyeongbuk Institute of Science & Technology), Dalseong-Gun, Daegu, REPUBLIC OF KOREA; Flextronics (China) Electronics Technology Co., Ltd., Haidian District, Beijing, PEOPLE'S REPUBLIC OF CHINA; ICERA Inc., Bristol, UNITED KINGDOM; Logos Solvo Ltd, Ebene, Mauritius, DENMARK; Mavenir Systems, Richardson, TX; mquadr.at software engineering & consulting GmbH, Vienna, AUSTRIA; Oberthur Technologies S.A., Nanteroie Cedex, FRANCE; Smartontech Co., Ltd., Ebene, Mauritius, DENMARK; Speago Oy, Helsinki, FINLAND; TCT Mobile Limited; Nanshan District, Shenzhen, PEOPLE'S REPUBLIC OF CHINA; and Telecommunication Metrology Center of MIIT, Haidian District, Beijing, PEOPLE'S REPUBLIC OF CHINA.

Also, the following members have withdrawn as parties to this venture: 1-800 Mobiles Inc., New York, NY; Ad & Tel FMG, Inc., Seocho-gu, Seoul, REPUBLIC OF KOREA; airwide solutions inc., Longueuil, Quebec, CANADA; ArcSoft Inc., Fremont, CA; Bouygues Telecom, Boulogne Billancourt Cedex, FRANCE; BROADCOM GPS SPAIN SL, Irvine, CA; Cellular GmbH, Hamburg, GERMANY; Celtius Oy, Helsinki, FINLAND; Colibria AS, Lysaker, NORWAY; Communology GmbH, Cologne, GERMANY; ConDel Technologies Inc., Tai-Yuan, St. Jubei, TAIWAN; Crealab SRL, Rome, ITALY; Danal Entertainment Inc., Seongnam-si, Gyeonggi-do, REPUBLIC OF KOREA; decontis GmbH, Loebau, GERMANY; Dimark Software, Inc., Cupertino, CA; EnSoft Co., Ltd., BundangGu, Seongnam City, REPUBLIC OF KOREA; FancyFon Software Ltd., Cork, IRELAND; Funambol, Pavia, ITALY; Future Dial, Inc., Sunnyvale, CA; Garmin International Inc., Olathe, KS; GlobalLogic Inc., San Jose, CA; GMIT GmbH, Berlin, GERMANY; GMV Soluciones Globales Internet, S.A.U., Madrid, SPAIN; GoldSpot Media Inc., Sunnyvale, CA; Handmark, Inc., Kansas City, MI; Hewlett-Packard, Cupertino, CA; iAnywhere Solutions Inc., Corvalis, OR; IBM Corporation, Somers, NY; IfeN GmbH, Poing, GERMANY; INNOACE Ltd., Twanak-gu, Seoul, REPUBLIC OF KOREA; Irdeto, Access B.V., Ka Moofodorp, NETHERLANDS; kt mhows Inc., Kangnam-gu, Seoul, REPUBLIC OF KOREA; Kvaleberg AS, Oslo, NORWAY; Mobixell Networks Ltd., Raanana, ISRAEL; Movial Applications, Helsinki, FINLAND; Myriad Group AG, Le Bourget Du Lac, FRANCE; NDS Limited, Middlesex, UNITED KINGDOM; O3SIS AG, Overath, GERMANY; Openwave, Redwood City, CA; PacketVideo Corp., San Diego, CA; Palm, Inc., Sunnyvale, CA; POINT-I CO., Ltd., Gwanjin-gu, Seoul, REPUBLIC OF KOREA; Prim'Vision, Villeneuve-Loubet, FRANCE; RedKnee, Inc., Mississauga, Ontario, CANADA; Roundbox, Inc., Bridgewater, NJ; Sagem Wireless, Paris, FRANCE; Sofia Digital Ltd., Tampere, FINLAND; Spectracore Technologies, San Diego, CA; Sprint, Lenexa, KS; SS8 Networks, Milpitas, CA; Syniverse Technologies, Inc., Tampa, FL; Tactel AB, Jonkoping, SWEDEN; Telcordia, Piscataway, NJ; Telstra Corporation Limited, Melbourne, AUSTRALIA; U-blox AG, Thalwil, SWITZERLAND; and Z-Think, LLC., Alpharetta, GA.

The following members have changed their names: Synclore Corporation to KII Corporation, Minato-ku, Tokyo, JAPAN; LG Telecom LTD. to LG Uplus Corp., Mapo-gu, Seoul, REPUBLIC OF KOREA; Mtag to Mobile Tag SAS, Paris, FRANCE; and Sagem Orga GmbH to Morpho Cards GmbH, Paderborn, GERMANY.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on June 1, 2011. A notice was published in the Federal Register pursuant to Section 6(b) of the Act on July 20, 2011 (76 FR 43346).

Patricia A. Brink,
Director of Civil Enforcement, Antitrust Division.

[FR Doc. 2012-6292 Filed 3-14-12; 8:45 am]

BILLING CODE P